DEPARTMENT OF HEALTH AND HUMAN SERVICES

National Institutes of Health

National Center for Research Resources; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Center for Research Resources Special Emphasis Panel.

Date: July 27-28, 2011.

Time: 9 a.m. to 5 p.m.

Agenda: To review and evaluate contract proposals.

Place: National Institutes of Health/NCRR/OR, Democracy 1, 6701 Democracy Blvd., 1064, Bethesda, MD 20892 (Virtual Meeting).

Contact Person: Guo Zhang, PhD, MD, Scientific Review Administrator, National Center for Research Resources, or National Institutes of Health, 6701 Democracy Boulevard, 1 Democracy Plaza, Room 1064, MSC 4874, Bethesda, MD 20892-4874, 301-435-0812, zhanggu@mail.nih.gov.

Name of Committee: National Center for Research Resources Special Emphasis Panel; Research Centers in Minority Institutions (RCMI).

Date: August 2, 2011.

Time: 8 a.m. to 5 p.m.

Agenda: To review and evaluate grant applications.

Place: Bethesda Marriott Suites, 6711 Democracy Blvd., Bethesda, MD 20817.

Contact Person: Steven Birken, PhD, Scientific Review Officer, Office of Review, National Center for Research Resources, 1 Democracy Plaza, Room 1078, 6701 Democracy Blvd., Bethesda, MD 20892, 301-435-0815, birkens@mail.nih.gov.

(Catalogue of Federal Domestic Assistance Program Nos. 93.306, Comparative Medicine; 93.333, Clinical Research; 93.371, Biomedical Technology; 93.389, Research Infrastructure, 93.306, 93.333; 93.702, ARRA Related Construction Awards, National Institutes of Health, HHS)

Dated: June 16, 2011.
Jennifer S. Spaeth,
Director, Office of Federal Advisory Committee Policy.

[FR Doc. 2011-15634 Filed 6-21-11; 8:45 am]

BILLING CODE 4140-01-P